CORPORATION FOR NATIONAL AND COMMUNITY SERVICE

Proposed Revision of the Corporation for National and Community Service Strategic Plan; Request for Input

AGENCY: Corporation for National and Community Service (CNCS).

ACTION: Request for Input on Proposed Update of the CNCS Strategic Plan.

SUMMARY: The Corporation for National and Community Service (CNCS) is revising its Strategic Plan. The current CNCS Strategic Plan was approved in 2011. All Federal Agencies are required to publish an updated Strategic Plan, concurrent with the publication of the FY 2015 President's Budget in February 2014. After the February 2014 publication of a strategic plan, agencies will next issue a new Strategic Plan in February 2018. CNCS's updated Strategic Plan will reflect the broad, long term outcomes that the CNCS aspires to achieve by implementing its mission.

We invite grantees, partners, future partners, and the public to submit written comments, as described below. Please see the Supplementary Information section below for information on developing your comments. The goal of this public comment process is solicit input on CNCS's updated Strategic Plan in accordance with CNCS's commitment to maintain high standards of transparency and openness.

As appropriate, public input received will be included in the updated Strategic Plan, however CNCS will be able not provide individual responses to the public comments that are received.

DATES: Written comments must be submitted to the individual and office listed in the ADDRESSES section by August 14, 2013.

ADDRESSES: You may submit comments by any of the following methods:

(1) Electronically through the Corporation's email system: StrategicPlanInput@cns.gov.

(2) By mail sent to: Corporation for National and Community Service; Marlene Zakai, Director of Strategic Initiatives, 1201 New York Avenue NW., Washington, DC 20525.

(2) By hand delivery or by courier to the CNCS mailroom at Room 8100 at the mail address given in paragraph (1) above, between 9:00 a.m. and 4:00 p.m. Eastern Time, Monday through Friday, except Federal holidays.

(3) By fax to: (202) 606-3462, Attention: Marlene Zakai, Director of Strategic Initiatives.

(4) Electronically through www.regulations.gov.

Individuals who use a telecommunications device for the deaf (TTY-TDD) may call 1-800-833-3722 between 8:00 a.m. and 8:00 p.m. Eastern Time, Monday through Friday.

FOR FURTHER INFORMATION CONTACT: Questions regarding this revision of the Strategic Plan should be directed to Marlene Zakai by email at StrategicPlanInput@cns.gov. Persons with hearing or speech impairments may contact CNCS via TTY by calling the Federal Information Relay Service at (800) 877-8339.

Description of Requested Input

CNCS is inviting formal input from the public concerning the update of the current CNCS Strategic Plan. The goal of the Strategic Plan update is to accurately reflect CNCS's strategic and programmatic priorities for the next 4 years.

CNCS' current Strategic Plan [http://www.nationalservice.gov/about/strategic-plan] leverages the strength of grantees, participants, programs, state service commissions and the American public to build a network of programs that offer effective solutions in the six priority areas:

• Disaster Services

• Economic Opportunity

• Education

• Environmental Stewardship

• Healthy Futures

• Veterans and Military Families

We will produce these results by investing in effective local initiatives, engaging more Americans in service, supporting evidence-based programs, and leveraging public-private partnerships. In addition to these priority focus areas, CNCS has four strategic goals, with accompanying priority measures:

Goal 1: Increase the impact of national service on community needs in communities served by CNCS-supported programs.

Goal 2: Strengthen national service so that participants engaged in CNCS-supported programs consistently find satisfaction, meaning and opportunity.

Goal 3: Maximize the value we add to grantees, partners and participants.

Goal 4: Fortify management operations and sustain a capable, responsive and accountable organization.

In updating its Strategic Plan, CNCS is seeking to be even more effective in achieving Goals 1-4 and its impact in the six priority focus areas. Specifically, CNCS is requesting comments in the following areas:

• How might the Strategic Plan be updated to reflect current community priorities?

• What is working well and should be further enhanced?

• What has shown promise and should have a more prominent place in the updated plan?

• What is less relevant in today's environment, allowing resources to be focused elsewhere?

Dated: July 8, 2013.
Marlene Zakai,
Director of Strategic Initiatives.

[FR Doc. 2013-16775 Filed 7-12-13; 8:45 am]

BILLING CODE 6050-28-P